DEPARTMENT OF ENERGY

Federal Energy Regulatory Commission

[Docket No. RP01-149-000]

Questar Pipeline Company; Notice of Tariff Filing

December 6, 2000.

Take notice that on December 1, 2000, Questar Pipeline Company (Questar) tendered for filing as part of its FERC Gas Tariff, the following tariff sheets, to be effective January 1, 2001:

First Revised Volume No. 1

Nineteenth Revised Sheet No. 5

Original Volume No. 3

Twenty-Eighth Revised Sheet No. 8

Quester states that the tendered tariff sheets show a revised Fuel Gas Reimbursement Percentage (FGRP) of 0.8%, replace the currently effective 1.4% for tracking fuel-use and lost and unaccounted-for gas. The difference of −0.6% is to reflect the decrease in fuel, lost and unaccounted-for gas from the current FGRP rate of 1.4% to 1.3% for the prospective 12 months ending December 31, 2001, as well as a −0.5% amortization for over recovered fuel collected in the 12 month period ended September 30, 2000.

Further, Questar states that the revised FGRP is filed pursuant to Section 12.14 of the General Terms and Conditions of Part 1 of Questar's tariff, First Revised Volume No. 1.

Questar states that a copy of this filing has been served upon its customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary

[FR Doc. 00-31546 Filed 12-11-00; 8:45 am]

BILLING CODE 6717-01-M